DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 1.451 acres of airport land from aeronautical use to non-aeronautical use and to authorize the sale of airport property located at Indianapolis International Airport, Indianapolis, IN. The aforementioned land is not needed for aeronautical use. The future use of the property is for commercial and industrial development.

There are no impacts to the airport by allowing the Indianapolis Airport Authority to dispose of the property.

DATES: Comments must be received on or before March 29, 2018.

ADDRESSES: Documents are available for review by appointment at the FAA Chicago Airports District Office, Melanie Myers, Program Manager, 2300 East Devon Avenue, Des Plaines, IL 60018, Telephone: (847) 294-7525/Fax: (847) 294-7046 and Eric Anderson, Director of Properties, Indianapolis Airport Authority, 7800 Col. H. Weir Cook Memorial Drive, Indianapolis, Indiana 46241, (317) 487-5135.

Written comments on the Sponsor's request must be delivered or mailed to: Melanie Myers, Program Manager, Federal Aviation Administration, Chicago Airports District Office, 2300 East Devon Avenue, Des Plaines, Illinois 60018, Telephone Number: (847) 294-7525/FAX Number: (847) 294-7046.

FOR FURTHER INFORMATION CONTACT: Melanie Myers, Program Manager, Federal Aviation Administration, Chicago Airports District Office, 2300 East Devon Avenue, Des Plaines, IL 60018, Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The vacant land consists of two (2) original airport acquired parcels. These parcels were acquired under grant 6-18-0038-01 or without federal participation. The future use of the property is for commercial and industrial development.

The disposition of proceeds from the sale of the airport property will be in accordance with FAA's Policy and Procedures Concerning the Use of Airport Revenue, published in the Federal Register on February 16, 1999 (64 FR 7696).

This notice announces that the FAA is considering the release of the subject airport property at the Indianapolis International Airport from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Part of the West Half of the Northwest Quarter of Section 24, Township 15 North, Range 2 East of the Second Principal Meridian in Marion County, Indiana, more particularly described as follows:

Commencing at the southwest corner of the Northwest Quarter of Section 24 Township 15 North, Range 2 East; thence North 88 degrees 45 minutes 38 seconds East along the south line of said Quarter a distance of 40.00 feet to the East right of way line of High School Road; thence North 00 degrees 02 minutes 05 seconds East along said right of way a distance of 18.00 feet to the southwest corner of a land tract conveyed to Airport Inn Developers by Instrument number 82-03934 as recorded in the Marion County Recorder's office; thence North 76 degrees 24 minutes 15 seconds East along a southeast line of said land tract a distance of 24.44 feet to the Point of Beginning; thence North 88 degrees 45 minutes 38 seconds East parallel with the south line of said Quarter a distance of 457.50 feet; thence North 87 degrees 31 minutes 55 seconds East a distance of 108.19 feet; thence North 81 degrees 23 minutes 38 seconds East a distance of 34.96 feet; thence North 62 degrees 49 minutes 04 seconds East a distance of 40.45 feet to a point located 15.00 feet east of the East line of the West Half of the West Half of said Quarter; thence North 00 degrees 05 minutes 31 seconds East parallel with the east line of said West Half of the West Half of said Quarter a distance of 215.56 feet to the north line of a land tract conveyed to Indianapolis Airport Authority by Instrument number 82-04538; thence South 57 degrees 28 minutes 02 seconds West along the north line of said land tract a distance of 17.81 feet to a corner of the land tract conveyed to Airport Inn developers by Instrument number 82-03934 (the following three courses being along the south lines of said land tract); (1) thence South 62 degrees 27 minutes 47 seconds West a distance of 178.37 feet; (2) thence South 66 degrees 53 minutes 07 seconds West a distance of 292.47 feet; (3) thence South 76 degrees 24 minutes 15 seconds West a distance of 199.81 feet to the Point of Beginning. Containing 1.451 acres, more or less.

Issued in Des Plaines, Illinois on February 12, 2018.
Deb Bartell,
Manager, Chicago Airports District Office, FAA, Great Lakes Region.

[FR Doc. 2018-03957 Filed 2-26-18; 8:45 am]

BILLING CODE 4910-13-P